DEPARTMENT OF TRANSPORTATION

Federal Motor Carrier Safety Administration

49 CFR Part 390

[Docket No. FMCSA-2012-0103]

RIN 2126-AB44

Lease and Interchange of Vehicles; Motor Carriers of Passengers

AGENCY: Federal Motor Carrier Safety Administration (FMCSA), DOT.

ACTION: Extension of deadline for filing petitions for reconsideration.

SUMMARY: FMCSA announces an extension of the deadline for submitting petitions for reconsideration of its May 27, 2015, final rule concerning the lease and interchange of commercial motor vehicles (CMVs) by motor carriers of passengers. The final rule provides regulations governing the lease and interchange of passenger-carrying CMVs to identify the motor carrier operating a passenger-carrying CMV that is responsible for compliance with the Federal Motor Carrier Safety Regulations (FMCSRs) and ensure that a lessor surrenders control of the CMV for the full term of the lease or temporary exchange of CMVs and drivers. The American Bus Association (ABA) and United Motorcoach Association (UMA) filed a joint request for an extension of the June 26, 2015, deadline for the submission of petitions for reconsideration of the final rule. The Agency grants the request and extends the deadline for submission of petitions for reconsideration from June 26 until August 25, 2015.

DATES: Petitions for reconsideration must be filed in accordance with 49 CFR 389.35 by close of business on August 25, 2015.

FOR FURTHER INFORMATION CONTACT: Ms. Loretta Bitner, (202) 385-2428, loretta.bitner@dot.gov, Office of Enforcement and Compliance. FMCSA office hours are from 9 a.m. to 5 p.m., Monday through Friday, except Federal holidays.

SUPPLEMENTARY INFORMATION:

Background

On May 27, 2015 (80 FR 30164), FMCSA published a final rule concerning the lease and interchange of passenger-carrying CMVs to identify the motor carrier operating a passenger-carrying CMV that is responsible for compliance with the FMCSRs and ensure that a lessor surrenders control of the CMV for the full term of the lease or temporary exchange of CMVs and drivers. The Agency indicated that the final rule is necessary to ensure that unsafe passenger carriers cannot evade FMCSA oversight and enforcement by entering into a questionable lease arrangement to operate under the authority of another carrier that exercises no actual control over those operations. This rule will enable the FMCSA, the National Transportation Safety Board (NTSB), and our Federal and State partners to identify motor carriers transporting passengers in interstate commerce and correctly assign responsibility to these entities for regulatory violations during inspections, compliance investigations, and crash investigations. It also provides the general public with the means to identify the responsible motor carrier at the time transportation services are provided.

The effective date of the final rule is July 27, 2015, and the compliance date is January 1, 2017, for motor carriers of passengers operating CMVs under a lease or interchange agreement.

ABA and UMA Request

On June 18, the ABA and UMA submitted a joint request for a 60-day extension of the deadline for petitions for reconsideration of the final rule. The associations stated:

“In the wake of publication of the Final Rule, our members have raised a number of significant questions regarding the practical and operational applications of the rule's requirements necessary for the successful implementation of the rule.

The diversity or our [members'] operations, some of which are addressed directly by this rule and some of which are indirectly addressed, we believe, has led to unintended consequences or possibly inaccurate interpretations. Therefore, before we consider filing a petition for reconsideration, we initially would like to work with the Agency and seek clarification.”

The associations indicated that they are currently in the process of coordinating meetings with FMCSA to provide clarification of the various provisions in the final rule but those meetings are not likely to be completed before the June 26, 2015, deadline for petitions for reconsideration.

FMCSA Decision

FMCSA has considered the ABA and UMA request and believes that granting an extension of the deadline is appropriate. The extension will enable the associations to work with their members to better understand the final rule, seek clarification or guidance from FMCSA if necessary, and determine subsequently whether there are indeed substantive issues to be addressed through a petition for reconsideration. The Agency extends the deadline for submission for an additional 60 days to August 25, 2015.

Issued on: June 24, 2015.
T.F. Scott Darling, III,
Chief Counsel.

[FR Doc. 2015-16111 Filed 6-26-15; 4:15 pm]

BILLING CODE 4910-EX-P